DEPARTMENT OF AGRICULTURE

Submission for OMB Review; Comment Request

May 22, 2000.

The Department of Agriculture has submitted the following information collection requirement(s) to OMB for review and clearance under the Paperwork Reduction Act of 1995, Public Law 104-13. Comments regarding (a) whether the collection of information is necessary for the proper performance of the functions of the agency, including whether the information will have partical utility; (b) the accuracy of the agency's estimate of burden including the validity of the methodology and assumptions used; (c) ways to enhance the quality, utility and clarity of the information to be collected; (d) ways to minimize the burden of the collection of infomration on those who are to respond, including through the use of appropriate automated, electronic, mechanical, or other technological collection techniques or other forms of information technology should be addressed to: Desk Officer for Agriculture, Office of Information and Regulatory Affairs, Office of Management and Budget (OMB), Washington, D.C. 20503 and to Departmental Clearance Office, USDA, OCIO, Mail Stop 7602, Washington, D.C. 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Farm Service Agency

Title: 7 CFR 1910-A Receiving and Processing Applications.

OMB Control Number: 0560-0178.

Summary of Collection: Section 302 (7 U.S.C. 1922) of the Consolidated Farm and Rural Development Act (CONACT) provides that “the Secretary is authorized to make and insure loans under this title to farmers and ranchers * * *” Section 339 (7 U.S.C. 1989) of the CONACT further provides “the Secretary is authorized to make such rules and regulations, prescribe the terms and conditions for making and insuring loans, security instruments and agreements, except as otherwise specified herein, and make such delegations of authority as he deems necessary to carry out this title.” The Farm Service Agency (FSA) has issued regulations through the Federal Register process to implement the making and servicing of direct loans in chapter 18 of the Code of Federal Regulations. These regulations establish the information collections necessary for FSA to make and service direct loans. These loans include Operating, Farm Ownership, Soil and Water, Softwood Timber Production, Emergency, Economic Emergency, Economic Opportunity, Recreation, and Rural Housing loans for Farm Service Buildings. FSA will collect information using loan applications.

Need and Use of the Information: FSA will collect information to determine eligibility and financial feasibility on respondent's requests for loans. The information is required to insure that FSA provides assistance to applicants who have reasonable prospects of repaying the government and meet statutory eligibility requirements.

Description of Respondents: Farm; individuals or households; business or other-for-profit; Federal Government.

Number of Respondents: 34,970.

Frequency of Responses: Reporting: Other (Eligibility).

Total Burden Hours: 119,412.

Forest Service

Title: Application for Permit Non-Federal Commercial Use of Roads by Order.

OMB Control Number: 0596-0016.

Summary of Collection The forest Service (FS) transporation system includes approximately 380,000 miles of roads. These roads are grouped into five maintenance levels. Level one includes roads, which are closed and maintained only to protect the environment. Level of maintenance increase to level five, which is maintained for safe passenger car use. The roads usually provide the only access to commercial products including timber and minerals found on both Federal and private lands within and adjacent to National Forests. Annual maintenance not performed becomes a backlog that creates a financial burden for the FS. To remedy the backlog and pay for needed maintenance the FS requires commercial users to apply and pay for a permit to use the FS Road System. Maintenance resulting from commercial use is accomplished through collection of funds or requiring the commercial users to perform the maintenance. The vehicle for this is the Road Use Permit. The authority for the Road Use Permit process comes from 36 CFR 212.5, 36 CFR 212.9 and 36 CFR 261.54 Section 212.9 authorizes the FS to develop a road system with private in holders that is mutually beneficial to both parties. FS will collect information using form FS 7700-40.

Need and Use of the Information: FS will collect the name; address; and telephone number; description of mileage of roads; purpose of use; use schedule; and plans for future use. The information is used by the FS to identify the road maintenance that is the direct result of the applican't traffic, to calculate any applicable collections for recovery of past Federal investments in roads. Without the Road Use Permit the backlog of maintenance would increase and the FS would have great difficulty providing the transportation system necessary to meet our mission.

Description of Respondents: Business or other for-profit; individuals or households; State, Local or Tribal Government; not-for-profit institutions.

Number of Respondents: 2000.

Frequency of Responses: Reporting: On occasion.

Total Burden Hours 500.

Farm Service Agency

Title: Lamb Meat Adjustment Assistance Program (LMAAP).

OMB Control Number: 0560-NEW.

Summary of Collection: The Lamb Meat Adjustment Assistance Program (LMAAP) is administered and implemented under the general direction of and supervision of the Farm Service Agency (FSA) through its State and County Committees. The LMAAP is authorized by the Act of August 24, 1935, clause (3) of section 32, and are implemented by regulations at 7 CFR Part 748, which provide for the reestablishment of farmers' purchasing power by making payments in connection with the normal production of any agricultural commodity for domestic consumption. Recently the surge of low-priced, imported lamb-meat causes the threat of injury to U.S. producers in the sheep and lamb industry. The objective of the program is to make direct payments to producers of sheep and lamb operations to help them weather the current economic crisis, as well as, help improve their production efficiencies and the marketability of lamb meat during the 3 year period from July 21, 1999, through July 31, 2002. FSA will collect information using forms FSA-382 and 383.

Need and Use of the Information: FSA will collect the following information: (1) Sheep and lamb operation name; (2) each related producer's name; (3) ID number and shares; (4) the number of rams purchased for the intended purpose of breeding; (5) the number of eligible sheep enrolled in and eligible sheep improvement program; and/or (6) the type and cost of the facility improvement. The information is needed to verify commodity and producer eligibility and calculate payment amounts. Without the information from the producers, FSA would be unable to administer the program to provide direct payments to the sheep and lamb operations.

Description of Respondents: Farm; Individuals or households; Business or other-for-profit.

Number of Respondents: 60,000.

Frequency of Responses: Reporting: Annually.

Total Burden Hours: 25,000.

Agency is requesting and emergency approval by May 20, 2000.

William McAndrew,
Departmental Clearance Officer.

[FR Doc. 00-13236 Filed 5-25-00; 8:45 am]

BILLING CODE 3410-01-M